DEPARTMENT OF COMMERCE

International Trade Administration

[A-549-813]

Continuation of Antidumping Duty Order: Canned Pineapple Fruit From Thailand

AGENCY: Import Administration, International Trade Administration, Department of Commerce.

ACTION: Notice of continuation of antidumping duty order: Canned pineapple fruit from Thailand.

SUMMARY: On February 2, 2001, the Department of Commerce (“the Department”), pursuant to sections 751(c) and 752 (c) of the Tariff Act of 1930, as amended (“the Act”), determined that revocation of the antidumping duty order on canned pineapple fruit (“CPF”) from Thailand would be likely to lead to continuation or recurrence of dumping (66 FR 8777). On May 17, 2001, the International Trade Commission (“the Commission”), pursuant to section 751(c) of the Act, determined that revocation of the antidumping duty order on CPF from Thailand would be likely to lead to continuation or recurrence of material injury to an industry in the United States within a reasonably foreseeable time (66 FR 27534). Therefore, pursuant to 751(d)(2) of the Act and 19 CFR 351.218(e)(4), the Department is publishing this notice of the continuation of the antidumping duty order on CPF from Thailand.

EFFECTIVE DATE: May 30, 2001.

FOR FURTHER INFORMATION CONTACT: Martha V. Douthit or James P. Maeder, Office of Policy for Import Administration, International Trade Administration, U.S. Department of Commerce, 14th Street and Constitution Ave., NW., Washington, DC 20230; telephone: (202) 482-5050 or (202) 482-3330, respectively.

SUPPLEMENTARY INFORMATION:

Background

On June 5, 2000, the Department initiated (65 FR 35604), and the Commission instituted (65 FR 35666), a sunset review of the antidumping duty order on CPF from Thailand, pursuant to section 751(c) of the Act. As a result of its review, the Department found that revocation of the antidumping duty order would be likely to lead to continuation or recurrence of dumping and notified the Commission of the magnitude of the margin likely to prevail were the order revoked. See Canned Pineapple Fruit From Thailand; Final Results of Full Sunset Review of Antidumping Duty Order, 66 FR 8777 (February 2, 2001).

On May 17, 2001, the Commission determined, pursuant to section 751(c) of the Act, that revocation of the antidumping duty order on CPF from Thailand would be likely to lead to continuation or recurrence of material injury to an industry in the United States within a reasonably foreseeable time. See Canned Pineapple Fruit From Thailand, 66 FR 27534 (May 17, 2001) and USITC Publication 3417 (May 2001), Investigation No. 731-TA-706 (Review).

Scope of the Order

The merchandise covered in the antidumping duty order is CPF from Thailand. CPF is defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (“HTSUS”). HTSUS 2008.20.0010 covers CPF packed in a sugar-based syrup; HTSUS 2008.20.0090 covers CPF packed without added sugar (i.e., juice-packed). Although these HTSUS subheadings are provided for convenience and for customs purposes, our written description of the scope is dispositive.

Determination

As a result of the determination by the Department, and the Commission that revocation of the antidumping duty order would be likely to lead to continuation or recurrence of dumping and material injury to an industry in the United States, pursuant to section 751(d)(2) of the Act, the Department hereby orders the continuation of the antidumping duty order on CPF from Thailand. The effective date of continuation of this order will be the date of publication in the Federal Register of this Notice of Continuation. Pursuant to section 751(c)(2) of the Act, the Department intends to initiate the next five-year review of this order not later than April 2006.

Dated: May 23, 2001.
Faryar Shirzad,
Assistant Secretary for Import Administration.

[FR Doc. 01-13549 Filed 5-29-01; 8:45 am]

BILLING CODE 3510-DS-P